DEPARTMENT OF JUSTICE

Antitrust Division

Notice Pursuant to the National Cooperative Research and Production Act of 1993—Utility Broadband Alliance, Inc.

Notice is hereby given that, on April 26, 2024, pursuant to section 6(a) of the National Cooperative Research and Production Act of 1993, 15 U.S.C. 4301 et seq. (“the Act”), Utility Broadband Alliance, Inc. (“UBBA”) has filed written notifications simultaneously with the Attorney General and the Federal Trade Commission disclosing changes in its membership. The notifications were filed for the purpose of extending the Act's provisions limiting the recovery of antitrust plaintiffs to actual damages under specified circumstances. Specifically, Grain Management LLC, Washington, DC; Celplan Technologies, Inc., Reston, VA; Capgemini America, Inc., New York, NY; AFL, Duncan, SC; Syncworks, Ponte Vedra Beach, FL; Digital Plus Solutions LLC, Kansas City, MO; and Oncor Electric Delivery Company LLC, Dallas, TX, have been added as parties to this venture.

Also, Council Rock, Rochester, NY; Ciena, Hannover, MD; Double Radius, Indian Trail, NC; Alliant Energy, Madison, WI; Q-net Security, St Louis, MO; Cyient, Telangaga, INDIA; Tessco, Hunt Valley, MD; American Electric Power, Columbus, OH; CDM Smith, Boston, MA; Oklahoma Gas & Electric, Oklahoma City, OK; Teal Communications, Inc., Seattle, WA; and Copper Labs, Inc., Boulder, CO, have withdrawn as parties to this venture.

Additionally, Wirepas USA LLC, New York, NY was inadvertently reported as a new party on the last filing published in the Federal Register on March 13, 2024. Wirepas USA LLC is not a party to this venture.

No other changes have been made in either the membership or planned activity of the group research project. Membership in this group research project remains open, and UBBA intends to file additional written notifications disclosing all changes in membership.

On May 4, 2021, UBBA filed its original notification pursuant to section 6(a) of the Act. The Department of Justice published a notice in the Federal Register pursuant to section 6(b) of the Act on June 10, 2021 (86 FR 30981).

The last notification was filed with the Department on February 2, 2024. A notice was published in the Federal Register pursuant to section 6(b) of the Act on March 13, 2024 (89 FR 18437).

Suzanne Morris,
Deputy Director Civil Enforcement Operations, Antitrust Division.

[FR Doc. 2024-14316 Filed 6-27-24; 8:45 am]

BILLING CODE P